DEPARTMENT OF LABOR

Veterans' Employment and Training Service

Solicitation for Grant Application for Veterans' Workforce Investment Program (VWIP) Supplementary Grants for Program Year 2003

Announcement Type: Initial Announcement.

Funding Opportunity Number: 04-02.

Catalog of Federal Domestic Assistance (CFDA) Number: 17.802.

Key Dates: Applications are to be submitted by no later than May 17, 2004.

Delivery Address: U.S. Department of Labor, Procurement Services Center, Attention: Cassandra Mitchell, Reference SGA 04-02, Room N5416, 200 Constitution Ave., NW., Washington, DC 20210.

Executive Summary: The U.S. Department of Labor, Veterans' Employment and Training Service (VETS) announces a competition for the balance of the Veterans' Workforce Investment Program (VWIP) grant funds for Program Year (PY) 2003 as authorized under section 168 of the Workforce Investment Act of 1998. This notice contains all of the necessary information and forms needed to apply for grant funding. Selected programs will assist eligible veterans by providing employment, training, support services, credentialing, networking information, and/or other assistance. Under this solicitation for grant applications (SGA), VETS anticipates that up to $400,000 in PY 2003 funds will be available for grant awards. The awards will be in the form of 12-month grants. The VWIP programs are designed to be flexible in addressing the universal as well as local or regional problems that may have had a negative impact on veterans reentering the workforce, including lack of coordinating information between local service providers. VETS, through this SGA, is seeking applications that take one of two approaches—either providing direct services to veterans, or providing outreach and public information activities that result in job and job training opportunities for veterans.

I. Funding Opportunity Description

Section 168 of the Workforce Investment Act of 1998 (WIA) amended the training programs made available to veterans. See sec. 168, Public Law 105-220, 112 Stat. 1027 (29 U.S.C. 2913. Section 168 authorizes the Department of Labor to make grants to meet the needs for workforce investment activities of veterans with service-connected disabilities, veterans who have significant barriers to employment, veterans who served on active duty in the armed forces during a war or in a campaign or expedition for which a campaign badge has been authorized, and recently separated veterans within 48 months of discharge. The Department of Labor is authorized to make grants to public agencies, and private non-profit organizations, and community-based organizations (including faith-based organizations) that are determined to have an understanding of the unemployment problems of veterans, familiarity with the area to be served, and the capability to administer a program of workforce investment activities for such veterans effectively.

The VWIP grants under section 168 of the Workforce Investment Act of 1998 are intended to address one or more of three objectives:

• To provide new and creative service delivery systems that address the complex employment problems facing veterans; or

• To provide services to assist in integrating veterans into meaningful employment within the labor force; or

• To provide outreach efforts such as communication strategies or conferences designed to address systemic problems with diverse agencies sharing information or to sponsor conferences designed to bring systemic change in skills development recognition that are barriers to veterans entering the workforce.

This SGA seeks to fund programs that are flexible, creative, innovative, and non-duplicative in addressing local or regional problems that have had a negative impact on keeping veterans from the workforce and improving the employment and retention of veterans.

The project design may provide for one of the following two options:

1. Employment and training services such as basic skills instruction, remedial education activities, job search activities including job search workshops, job counseling, job preparatory training including résumé writing and interviewing skills, subsidized trial employment, on-the-job training, classroom training, placement follow-up services, and other services provided under WIA.

2. Outreach activities such as local or regional newsletters or other communications devices that convey important information to all entities involved in providing employment and training services to veterans, or regional or national conferences. For example, conferences might bring together interested parties from within and outside the public labor exchange system in order to share important information on strategies for removing credentialing barriers facing veterans with viable but unrecognized skills.

No model is mandatory but the applicant must design a program that is responsive to local, regional, or national needs, is unique, creative, innovative and non-duplicative, and will carry out the objectives of the program to successfully integrate eligible veterans into the workforce. Under the Government Performance and Results Act, Public Law 103-62, 107 Stat. 285 (31 U.S.C. 1101 et seq.), Congress and the public are looking for program results rather than program processes.

If the grantee contemplates training and placement activity, coordination with the Disabled Veterans Employment Program Specialists (DVOP's) and Local Veterans Employment Representatives (LVER's) in the jurisdiction is required. Additionally, wherever possible, DVOP and LVER staff should be utilized for job development and placement activities for veterans who are ready to enter employment or who are in need of intensive case management services. Many of these staff members have received training in case management at the National Veterans Training Institute and have a priority of focus on assisting those most at a disadvantage in the labor market. VETS urges working hand-in-hand with DVOP/LVER staff to achieve economies of resources.

II. Award Information

Awards will be made in the form of 12-month grants. Up to five grant awards are anticipated. The total amount of funds available for this solicitation is $400,000. Awards are expected to range from $75,000 to a maximum of $250,000. The Department of Labor reserves the right to negotiate the amounts to be awarded under this competition. Requests exceeding $250,000 will be considered non-responsive.

The period of performance will be for twelve (12) months from the date of award unless modified. It is expected that successful applicants will commence program operations under this solicitation not later than June 30, 2004. Program funds must be obligated within 12 months of the grant award. However, funds may be reserved for limited activities including follow-up and grant closeout.

III. Eligibility Information

1. Eligible Applicants. Under section 168(a)(2) of the Workforce Investment Act, grants may be made to public agencies, private non-profit organizations, and community based organizations (including faith-based organizations) that DOL determines have familiarity with the area and population to be served and can administer an effective program. Entities that have already received PY 2003 grants are not eligible to be awarded funds under this SGA. Eligible applicants will fall into one of the following categories:

• State and Local Workforce Investment Boards established under sections 111 and 117 of the Workforce Investment Act.

• States and State agencies. A State agency may propose in its application to serve one or more of the political subdivisions in its State. As noted below, this does not preclude a city or county agency from submitting an application to serve its own jurisdiction.

• Local public agencies, meaning any public agency of a general purpose political subdivision of a State that has the power to levy taxes and spend funds, as well as general corporate and police powers. (This typically refers to cities and counties.)

• Private non-profit organizations, including faith-based and community organizations, that have a capacity to manage grants and have or will provide the necessary linkages with other service providers. Entities organized under section 501(c)(4) of the Internal Revenue Code that engage in lobbying activities are not eligible to receive funds under this announcement. Section 18 of the Lobbying Disclosure Act of 1995, Public Law 104-65, 109 Stat. 691 (2 U.S.C. 1611) prohibits instituting an award, grant, or loan of Federal funds to 501(c)(4) entities that engage in lobbying.

• Applicants for VWIP must satisfy a “responsibility review” that demonstrates an ability to administer Federal funds. See 20 CFR 667.170.

In accordance with 29 CFR part 98, entities that are debarred or suspended shall be excluded from Federal financial assistance and are ineligible to receive a VWIP grant.

2. Cost Sharing or Matching. Although VETS encourages applicants to use cost sharing and matching funds, Veterans Workforce Investment Grants do not require grantees to share costs or provide matching funds.

3. Other Eligibility Criteria. To be eligible for participation in a training program administered under VWIP, an individual must be a veteran fitting one of the following categories:

“* * * veterans with service-connected disabilities, veterans who have significant barriers to employment, veterans who served on active duty in the armed forces during a war or in a campaign or expedition for which a campaign badge has been authorized, and recently separated veterans [those within 48 months of discharge].” See section 168 (a)(1) of the Workforce Investment Act.

IV. Application and Submission Information

1. Address to Request Application Package. Applications announcements or forms will not be mailed. The Federal Register may be obtained from your nearest government office or library. This SGA, together with its attachments, includes all information needed to apply. Additional application packages may be obtained from the VETS Web site at http://www.dol.gov/vets and at http://www.fedgrants.gov. If additional copies of the standard forms are needed, they can be downloaded from http://www.whitehouse.gov/omb/grants/grants_forms.html. To receive any amendments to this solicitation (please reference SGA 04-02), all applicants must register their name and address in writing with the Grant Officer at the following address: U.S. Department of Labor, Procurement Services Center, Room N-5416, 200 Constitution Ave., NW., Washington, DC 20210.

2. Content and Format of Application Submission. Applicants must submit a cover letter and an original and two (2) copies of each part of this proposal. The proposal consists of two separate and distinct parts, Part 1 is the technical proposal and Part 2 is the cost proposal. The information provided in these two parts is essential in gaining an understanding of the programmatic and fiscal contents of the grant application.

Part 1—The Technical Proposal consists of a narrative proposal that demonstrates: the need for this particular grant program; the services and activities proposed to obtain successful outcomes for the veterans served; and the applicant's capability to accomplish the expected outcomes of the proposed project design. Applicants must be responsive to the Rating Criteria contained in section V (1) and address all of the rating factors as thoroughly as possible in the narrative.

The technical proposal narrative must not exceed fifteen (15) pages double-spaced, font size no less than 11 pt., and typewritten on one side of the paper only. [The applicant also must complete the forms, i.e., the Technical Performance Goals chart provided in the SGA, or some other matrix designed to show performance goals. See Appendix D.]. Required forms and appendices/attachments are not included in the page count.

In order to facilitate the review process, the following format for the technical proposal is strongly recommended:

• Need for the program. The applicant must identify the geographic area to be served; estimate the number of eligible veterans and their needs; indicate poverty, and unemployment rates in the area; and identify the gaps in the local community infrastructure that contribute to the employment and other barriers faced by the targeted veterans. Include Labor Market Information (LMI) on the outlook for job opportunities in the service area. In the case of outreach activities, the need for communications strategies such as Web sites, newsletters or conferences must be fully explained.

• Approach or strategy to obtain successful outcomes for veterans. The applicant must identify which of the two approaches it proposes to take to produce positive outcomes for veterans—direct services or outreach and public information activities. This section of the proposal should discuss how direct services to veterans will meet the needs of eligible veterans identified, or how the outreach effort will implement the communications strategies described in the “need for the program” section. Regardless of which approach proposed, this section should include identification of how the applicants proposed approach or strategy will increase or solidify cooperation, coordination, sharing of information between agencies in the community, the region, or in the nation.

• An indication that the applicant has the capability and knowledge to accomplish the goals in the application.

Part 2—Cost Proposal. The cost proposal consists of a completed Standard Form (SF) 424 “Application for Federal Assistance”, SF 424A “Budget Information Sheet”, a detailed cost breakdown of each line item on the SF 424A, and supporting materials. Copies of all required forms, with instructions for completion, are included as appendices to this SGA. Applicants can expect that the cost proposal will be reviewed for allowability, how the money is allocated, and reasonableness of placement and enrollment costs. VETS reserves the right to have a State representative review and verify all data. The cost proposal must include the following items:

(i) The Standard Form (SF) 424, “Application for Federal Assistance” (original signed in blue-ink). Please note that, beginning October 1, 2003, all applicants for Federal grant and funding opportunities are required to include a Dun and Bradstreet (DUNS) number with their application. See OMB Notice of Final Policy Issuance, 68 Fed. Reg. 38402 (June 27, 2003). The DUNS number is a nine-digit identification number that uniquely identifies business entities. There is no charge for obtaining a DUNS number (although it may take 14-30 days).

To obtain a DUNS number, access the following Web site: http://www.dunandbradstreet.com or call 1-866-705-5711. Requests for exemption from the DUNS number requirement must be made to OMB. The Dun and Bradstreet Number of the applicant should be entered in the “Organizational Unit” section of block 5 of SF 424. The Catalog of Federal Domestic Assistance number for this program is 17.802. It must be entered on the SF 424, Block 10.

(ii) Standard Form (SF) 424A “Budget Information Sheet” in Appendix B,

(iii) A detailed cost breakout of each line item on the Budget Information Sheet, which should be labeled as “Budget Narrative.” Please ensure that costs reported on the SF 424A correspond accurately with the Budget Narrative. The budget narrative must include the following information at a minimum:

• A breakout of all personnel costs by position, title, salary rates, and percent of time of each position to be devoted to the proposed project (including sub-awardees);

• An explanation and breakout of extraordinary fringe benefit rates and associated charges (i.e., rates exceeding 35% of salaries and wages);

• An explanation of the purpose and composition of, and method used to derive the costs, of each of the following: travel, equipment, supplies, sub-awards/contracts, and any other costs. The applicant must include costs of any required travel described in this solicitation. Mileage charges may not exceed 36 cents per mile;

• A description/specification of and justification for equipment purchases, if any. Tangible, non-expendable personal property having a useful life of more than one year and a unit acquisition cost of $5,000 or more per unit must be specifically identified.

• Matching funds, leveraged funds, and in-kind services are not required for VWIP grants. However, if matching funds, leveraged funds or in-kind services are to be used, an identification of all sources of leveraged or matching funds and an explanation of the derivation of the value of matching/in-kind services must be provided. When resources such as matching funds, leveraged funds and/or the value of in-kind contributions are made available, please show in section B of the Budget Information Sheet.

(iv) Assurance and Certification signature page, Appendix C.

(v) All applicants must submit evidence of satisfactory financial management capability, which must include recent financial and/or audit statements.

(vi) All applicants must include, as a separate appendix, a list of all employment and training grants and contracts that it has had in the past three (3) years, including grant/contract officer contact information.

(vii) Documentation of indirect cost rates, as described in section IV (5) below.

(viii) A copy of the applicant's most recent (within 12 months) audited financial statement.

(ix) Direct Cost Descriptions for Applicants and Sub-Applicants (See Appendix E.)

(x) Survey on Ensuring Equal Opportunity for Applicants (See Appendix F.)

3. Submission Dates and Times

The grant application package must be received at the designated location by the date and time specified or it will not be considered. Any application received at the Office of Procurement Services after 4:45 p.m. ET, May 17, 2004 will not be considered unless it is received before the award is made and:

• It is determined by the Government that the late receipt was due solely to mishandling by the Government after receipt at the U.S. Department of Labor at the address indicated;

• It was sent by registered or certified mail not later than the fifth calendar day before the closing date of this announcement; or

• It was sent by U.S. Postal Service Express Mail Next Day Service-Post Office to Addressee, not later than 5 p.m. at the location of mailing two (2) working days, excluding weekends and Federal holidays, prior to the closing date of this announcement. The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper.

The only acceptable evidence to establish the date of mailing of a late application sent by U.S. Postal Service Express Mail Next Day Service-Post Office to Addressee is the date entered by the Post Office clerk on the “Express Mail Next Day Service-Post Office to Addressee” label and the postmark on the envelope or wrapper and on the original receipt from the U.S. Postal Service.

“Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence of receipt maintained by that office.

Applications sent by other delivery services, such as Federal Express, UPS, etc., will also be accepted.

All applicants are advised that U.S. mail delivery in the Washington, DC area has been erratic due to security. All applicants must take this into consideration when preparing to meet the application deadline, as you assume the risk for ensuring a timely submission.

4. Intergovernmental Review. This funding opportunity is not subject to Executive Order 12372, “Intergovernmental Review of Federal Programs.”

5. Funding Restrictions. Rules relating to allowable costs are addressed in 20 CFR 667.200 through 667.220. Under 20 CFR 667.210(b), limits on administrative costs will be negotiated with the grantee and identified in the grant award documents. Construction costs (as opposed to maintenance and/or repair costs) are generally not allowed under WIA. While there are no specific limits on indirect costs, the amount of indirect cost charged to the grant is subject to the overall limitation on administrative costs as negotiated in the grant agreement.

Indirect costs claimed by the applicant must be based on a federally approved rate. A copy of the negotiated approved and signed indirect cost negotiation agreement must be submitted with the application. If the applicant does not presently have an approved indirect cost rate, a proposed rate with justification may be submitted. Successful applicants will be required to negotiate an acceptable and allowable rate with the appropriate DOL Regional Office of Cost Determination or cognizant agency within 90 days of grant award. (See http://www.whitehouse.gov/omb/grants/attch.html.) Rates that can be tracked through the State Workforce Agency's Cost Accounting System represent an acceptable means of allocating costs to DOL and, therefore, can be approved for use in grants to State Workforce Agencies.

6. Other Submission Requirements. Applications may be submitted by registered or certified mail, U.S. Postal Service Express Mail Next Day Service-Post Office to Addressee, U.S. Postal Service First Class Mail, other delivery services (UPS, FEDEX, etc.), or hand delivery in accordance with the submission instructions under section IV (2) above. Applications cannot be accepted by e-mail or facsimile machine.

V. Application Review Information

1. Panel Review Criteria

Applications will be reviewed based upon the following criteria, up to a maximum of 100 points:

A. Need for the Project: 30 points

Applications will be scored on the documented extent of need for this project, as demonstrated by: (i) The potential number or concentration of veterans in the proposed project area relative to other similar areas of jurisdiction; (ii) the high rates of poverty and/or unemployment in the proposed project area as determined by the census or other surveys; (iii) the extent of gaps in the local infrastructure that create employment barriers that hinder the target population; (iv) the number of service members separating from the armed forces at local military bases; (v) problems with coordination between service providers; and (vi) identification of credentialing barriers which need to be addressed.

B. Overall Strategy To Enhance Services Provided to Veterans, To Initiate Actions To Provide Workforce Investment Activities for Veterans Not Otherwise Served, or To Provide Outreach and Public Information Activities To Develop and Promote Maximum Job and Job Training Opportunities for Eligible Veterans: 40 points

The application must include a description of the proposed approach to address one of the permissible strategies—either to provide workforce investment activities or to provide outreach and public information activities. Applicants should demonstrate how the activities will be tailored or will be responsive to the needs of veterans, and the employers seeking to hire veterans. Applications will be scored on the extent to which they demonstrate the following:

In the case of an application describing direct services to veterans:

(i) Is the project Unique—Has any other service provider tried the same approach;

(ii) Is the project Creative—What will this project do that other projects won't do or haven't done;

(iii) Is the project Innovative—Are any changes made to traditional service delivery programs to make them more effective?

As part of its service proposal, has the grantee planned to provide appropriate awareness, information sharing, and orientation activities on veterans and their needs to the following: Federal, State, and local entitlement services such as the Social Security Administration (SSA), Department of Veterans Affairs (DVA), State Workforce Agencies (SWAs) and their local job service offices or one-stop-centers including service programs such as Disabled Veterans Outreach Program (DVOP) Specialists, Local Veterans' Employment Representatives (LVERS) (which integrate WIA, labor exchange, and other employment and social services), detoxification facilities, etc.; civic and private groups and especially veterans' service organizations such as The American Legion, Disabled American Veterans, Veterans of Foreign Wars, and American Veterans (AMVETS); Family Service Centers on local military bases and local managers of Transition Assistance Program classes (this might be accomplished by the publication of an assistance guide or other periodical with information about these services); and faith and community based organizations?

In the case of an outreach program:

(i) Is the project Unique—Has any other service provider tried the same approach;

(ii) Is the project Creative—What will this project do that other projects won't do or haven't done;

(iii) Is the project Innovative—Are any changes made to traditional outreach programs to make them more effective?

In its proposal for outreach, has the grantee planned to provide appropriate awareness, information sharing, and orientation activities on veterans and their needs to the following: Federal, State, and local entitlement services such as the Social Security Administration (SSA), Department of Veterans Affairs (DVA), State Workforce Agencies (SWAs) and their local job service offices or one-stop-centers including service programs such as Disabled Veterans Outreach Program (DVOP) Specialists, Local Veterans' Employment Representatives (LVERS) (which integrate WIA, labor exchange, and other employment and social services), detoxification facilities, etc.; civic and private groups and especially veterans' service organizations such as The American Legion, Disabled American Veterans, Veterans of Foreign Wars, and American Veterans (AMVETS); Family Service Centers on local military bases and local managers of Transition Assistance Program classes (this might be accomplished by the publication of an assistance guide or other periodical with information about these services); and faith and community based organizations?

Additionally, where the project design focuses on improved coordination/cooperation, community outreach, conferences and public information, has the narrative described a comprehensive plan for meeting the challenges and solving the problems associated with getting disparate groups talking to each other and/or getting relevant information to eligible veterans in a cogent, logical, and efficient manner on a regular basis.

C. Demonstrated Capability in Providing Required Program Services: 30 points

The applicant must describe its relevant prior experience in either operating a public information or community outreach effort or operating employment and training programs and providing services to participants similar to those which are proposed under this solicitation. Specific outcomes of the applicant's prior experience must be described, including costs per enrollment and cost per entered employment or, in the case of outreach activities, number of relevant parties reached or conferences attended. The applicant must also address its capability and ability for timely startup of the program. The applicant should delineate its staff capability and ability to manage the financial aspects of a grant program, including a recent (within the last 12 months) financial statement or audit if available. Final or most recent technical reports for other relevant programs must be submitted if applicable and will not be scored against the page count. Because prior grant experience is not a requirement for this grant, some applicants may not have any technical reports to submit.

2. Review and Selection Process

The Grant Officer, with the assistance of VETS staff, will conduct an initial screening to determine responsiveness, timeliness, completeness, and eligibility of the applicant. Following the initial screening, the review panel using the point scoring system specified above in V(1) will review those applications determined to meet these criteria. Applications will be ranked based on the score assigned by the panel after careful evaluation by each panel member. The ranking will be the primary basis to identify applicants as potential grantees. Although the Government reserves the right to award on the basis of the initial proposal submissions, the Government may establish a competitive range, based upon the proposal evaluation, for the purpose of selecting qualified applicants. The panel's conclusions are advisory in nature and not binding on the Grant Officer. The Government reserves the right to ask for clarification or hold discussions, but is not obligated to do so. The Government further reserves the right to select applicants out of rank order if such a selection would, in its opinion, result in the most effective and appropriate combination of funding, program and administrative costs e.g., cost per enrollment and placement, demonstration models, and geographic service areas. While points will not be awarded for cost issues, cost per entered employment will be given serious consideration in the selection of awardees. The Grant Officer's determination for award under SGA 04-02 is the final agency action. The submission of the same proposal from any prior year Homeless Veterans' Reintegration Project or VWIP competition does not guarantee an award under this solicitation.

VI. Award Administration

1. Award Notices

The Grant Officer will notify successful applicants of their awards. The notification letter will contain instructions on when performance under the terms of the award may begin. No activity associated with a grant application is authorized prior to official notification of an award by the Grant Officer. Before the actual grant award, the Grant Officer, in consultation with VETS staff, may enter into negotiations concerning such items as program components, funding levels, and administrative systems. If the negotiations do not result in an acceptable submittal, the Grant Officer reserves the right to terminate the negotiation and decline to fund the proposal.

2. Administrative and National Policy Requirements

Grantees must comply with the provisions of WIA and its regulations, as applicable. All grants will also be subject to the following administrative standards and provisions, if applicable to the particular grantees:

• 20 CFR Part 667—Administrative provisions for programs including VWIP, under Title I of WIA.

• 29 CFR Part 93—Lobbying.

• 29 CFR Part 95—Uniform Administrative Requirements for Grants and Agreements with Institutions of Higher Education, Hospitals, and Other Non-profit Organizations, and with Commercial Organizations.

• 29 CFR Part 96—Federal Standards for Audit of Federally Funded Grants, Contracts and Agreements.

• 29 CFR Part 97—Uniform Administrative Requirements for Grants and Cooperative Agreements to State and local Governments.

• 29 CFR Part 98—Federal Standards for Government-wide Debarment and Suspension (Non-procurement) and Government-wide Requirements for Drug-Free Workplace (Grants).

• 29 CFR Part 99—Audit of States, Local Governments, and Non-profit Organizations.

• 29 CFR Parts 30, 31, 32, 33, 36, and 37—Equal Employment Opportunity in Apprenticeship and Training; Nondiscrimination in Federally Assisted Programs of the Department of Labor, Effectuation of Title VI of the Civil Rights Act of 1964; Nondiscrimination on the Basis of Handicap in Programs and Activities; and Nondiscrimination on the Basis of Sex in Education Programs Receiving Federal Financial Assistance; and Implementation of the Nondiscrimination and Equal Opportunity Provisions of the Workforce Investment Act of 1988.

• In accordance with WIA section 195(6), programs funded under this SGA may not involve political activities. Additionally, in accordance with section 18 of the Lobbying Disclosure Act of 1995, Public Law 104-65 (2 U.S.C. 1611), non profit entities incorporated under 501(c)(4) that engage in lobbying activities are not eligible to receive Federal funds and grants.

3. Reporting Requirements. The grantees will be required to submit the reports and documents listed below:

A. Financial Reports

The grantee must report outlays, program income, and other financial information on a quarterly basis using SF 269A, Financial Status Report, Short Form. This form will cite the assigned grant number and be submitted to the appropriate State Director for Veterans' Employment and Training (DVET) no later than 30 days after the ending date of each Federal fiscal quarter (i.e., reports are due October 30, January 30, April 30 and July 30) during the grant period.

B. Program Reports

Grantees must electronically submit a Quarterly Technical Performance Report 30 days after the end of each Federal fiscal quarter (i.e., reports are due October 30, January 30, April 30 and July 30) to the appropriate State Director of Veterans Employment and Training that contains the following:

• A comparison of actual accomplishments to established goals for the reporting period and any findings related to monitoring efforts;

• An explanation for variances of plus or minus 15% of planned program and/or expenditure goals, to include: (i) identification of corrective action, which will be taken to meet the planned goals, if required by the Grant Officer's Technical Representative; and (ii) a timetable for accomplishment of the corrective action.

C. Three (3) Month Follow-Up Report

Not later than 120 days after the grant expiration date, the grantee must submit a report showing/assessing program results at the 90-day mark. The report should also contain the following:

• Financial Status Report (SF269A) (copy to be provided following grant awards); and

• Technical Performance Report (Program Goals).

D. Six (6) Month Follow-Up Report—Close Out

No later than 210 days after the grant performance period ends, the grantee must submit a follow-up report containing the following:

• Final Financial Status Report (SF269A); and

• Final Narrative Report identifying—(a) the total combined (directed/assisted) number of veterans placed during the entire grant period; (b) the number of veterans still employed during follow up; (c) whether the veterans are still employed at the same or similar job, and if not what are the reasons; (d) whether the training received was applicable to jobs held; (e) wages at placement and during follow-up period; (f) an explanation regarding why those veterans placed during the grant but not employed at the end of the follow-up period are not so employed; and (g) any recommendations to improve the program. Reporting requirements under D. above will not apply to programs involving outreach and public information activities that do not involve the direct training and placement of eligible veterans.

VII. Agency Contacts

For answers to questions or help with problems while the funding period is open contact Cassandra Willis, U.S. Department of Labor, Procurement Services Center, telephone (202) 693-4570.

VIII. Other Information

Unless specifically provided in the grant agreement, DOL's acceptance of a proposal and an award of Federal funds to sponsor any program(s) do not provide a waiver of any grant requirements and/or procedures. For example, the OMB circulars require and an entity's procurement procedures must provide that all procurement transactions will be conducted, as practical, to provide open and free competition. If a proposal identifies a specific entity to provide the services, the DOL award does not provide the justification or basis to sole-source the procurement, i.e., avoid competition.

FOR FURTHER INFORMATION CONTACT: It is recommended that you confirm receipt of your application by contacting Cassandra Mitchell, U.S. Department of Labor, Procurement Services Center, telephone (202) 693-4570, prior to the closing deadline. [This is not a toll-free number.]

All applicants are advised that U.S. mail delivery in the Washington, DC area has been erratic due to security concerns. All applicants must take this into consideration when preparing to meet the application deadline.

Signed at Washington, DC this 7th day of April, 2004.
Lisa Harvey,
Acting Grant Officer.

Appendices

Appendix A: Application for Federal Assistance SF 424

Appendix B: Budget Information Sheet SF 424A

Appendix C: Assurances and Certifications Signature Page

Appendix D: Technical Performance Goals Form

Appendix E: Direct Cost Descriptions for Applicants and Sub-Applicants

Appendix F: Survey on Ensuring Equal Opportunity for Applicants

Appendix G: The Glossary of Terms

Appendix H: Legal Rules Applying to Faith Based Organizations

BILLING CODE 4510-79-P

[FR Doc. 04-8557 Filed 4-14-04; 8:45 am]

BILLING CODE 4510-79-C